DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR Part 67.

The Federal Emergency Management Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) modified ◆Elevation in feet (NAVD) modified
NM | Jal (City) Lea County (FEMA Docket No. P7683) | Flow Path 1 | Approximately 2,900 feet downstream of Whitworth Drive | ◆3,000
|  |  | Approximately 1,250 feet upstream of East Kansas Avenue | ◆3,071
|  | Flow Path 2 | At the confluence with Flow Path 1 | ◆3,054
|  |  | Approximately 400 feet upstream of Ocho Road | ◆3,082
|  | Flow Path 3 | At the confluence with Flow Path 1 | ◆3,051
|  |  | Approximately 80 feet upstream of West Kansas Avenue | ◆3,087
|  | Flow Path 4 | Approximately 200 feet downstream of West Nevada Avenue | ◆3,025
|  |  | Approximately 225 feet upstream of West Wyoming Avenue | ◆3,080
|  | Flow Path 5 | Approximately 200 feet downstream of West Minnesota Avenue | ◆3,019
|  |  | Approximately 175 feet upstream of West Colorado Avenue | ◆3,080
|  | Flow Path 6 | Approximately 1,350 feet downstream of West Missouri Avenue | ◆3,007
|  |  | Approximately 1,775 feet upstream of West Minnesota Avenue | ◆3,046
Maps are available for inspection at 523 Main Street, Jal, New Mexico.
TX | New Braunfels (City) Comal and Guadalupe Counties (FEMA Docket No. P7667) | Blieders Creek (Upper Reach) | Approximately 730 feet downstream of State Highway 46 | ◆815
|  |  | Approximately .52 mile upstream of Horseshoe Trail | ◆858
|  | Comal River/Dry Comal Creek | At the confluence with the Guadalupe River | ◆617
|  |  | Approximately 1,200 feet upstream of Krueger Canyon Road | ◆666
|  | Comal Springs/Blieders Creek | At the convergence with the New Channel Comal River and Old Channel Comal River | ◆625
|  |  | Approximately .41 mile upstream of River Road | ◆673
|  | Guadalupe River | Approximately .65 mile downstream of the confluence of North Guadalupe Tributary | ◆598
|  |  | Approximately 420 feet upstream of the Union Pacific Railroad | ◆635
|  | New Channel Comal River | At the convergence with Dry Comal Creek | ◆625
|  |  | At the divergence from the Old Channel Comal River and Comal Springs | ◆625
|  | North Guadalupe Tributary | At the confluence with the Guadalupe River | ◆602
|  |  | Approximately 110 feet upstream of FM 1044/Old Marion Road | ◆678
|  | Old Channel Comal River | At the confluence with the Comal River | ◆618
|  |  | At the divergence from the New Channel Comal River and Comal Springs | ◆625
|  | South Guadalupe Tributary | At the confluence with the North Guadalupe Tributary | ◆602
|  |  | Approximately 100 feet upstream of FM 1044/Old Marion Road | ◆672
Maps are available for inspection at the New Braunfels Municipal Building, 424 South Castell Avenue, New Braunfels, Texas.

(Catalog of Federal Domestic Assistance No. 83.100, “Flood Insurance.”)
Dated: August 4, 2005.
David I. Maurstad,
Acting Director, Mitigation Division, Emergency Preparedness and Response Directorate.

[FR Doc. 05-15992 Filed 8-11-05; 8:45 am]

BILLING CODE 9110-12-P